DEPARTMENT OF COMMERCE

National Oceanic and Atmospheric Administration

[RTID 0648-XB869]

Research Track Assessment for Northern Shortfin Squid and Butterfish

AGENCY: National Marine Fisheries Service (NMFS), National Oceanic and Atmospheric Administration (NOAA), Commerce.

ACTION: Notice of public meeting.

SUMMARY: NMFS will convene the Research Track Assessment Peer Review Meeting for the purpose of reviewing northern shortfin squid and butterfish stocks. The Research Track Assessment Peer Review is a formal scientific peer-review process for evaluating and presenting stock assessment results to managers for fish stocks in the offshore U.S. waters of the northwest Atlantic. Assessments are prepared by the research track working group and reviewed by an independent panel of stock assessment experts from the Center of Independent Experts (CIE). The public is invited to attend the presentations and discussions between the review panel and the scientists who have participated in the stock assessment process.

DATES: The public portion of the Research Track Assessment Peer Review Meeting will be held from March 7, 2022-March 11, 2022. The meeting will conclude on March 11, 2022 at 6 p.m. Eastern Standard Time. Please see SUPPLEMENTARY INFORMATION for the daily meeting agenda.

ADDRESSES: The meeting will be held via WebEx.

Link: https://noaanmfs-meets.webex.com/noaanmfs-meets/j.php?MTID=m8a1062743b689f38d340622b4c9367ff.

Meeting number (access code): 2761 523 2146.

Meeting password: vNhr8Y75tBu.

FOR FURTHER INFORMATION CONTACT: Michele Traver, phone: 508-257-1642; email: michele.traver@noaa.gov.

SUPPLEMENTARY INFORMATION: For further information, please visit the Northeast Fisheries Science Center (NEFSC) website at https://www.fisheries.noaa.gov/new-england-mid-atlantic/population-assessments/fishery-stock-assessments-new-england-and-mid-atlantic. For additional information about research track assessment peer review, please visit the NEFSC web page at https://www.fisheries.noaa.gov/new-england-mid-atlantic/population-assessments/research-track-stock-assessments.

Daily Meeting Agenda—Research Track Peer Review Meeting

The agenda is subject to change; all times are approximate and may be changed at the discretion of the Peer Review Chair.

Monday, March 7, 2022
Time | Topic | Presenter(s) | Notes
12 p.m.-12:15 p.m | Welcome/Logistics Introductions/Agenda/Conduct of Meeting | Michele Traver, Assessment Process Lead Russ Brown, PopDy Branch Chief
| Butterfish | Mike Wilberg, Panel Chair
12:15 p.m.-1:45 p.m | Terms of Reference (TORs) #1 and A1 | Charles Adams, Andrew Jones, Jason Didden, Tori Kentner | Life history Catch Spatial Distribution Industry Perspective and Outreach Aging.
1:45 p.m.-3 p.m. | TORs #2 and A2 | Charles Adams, Laurel Smith, Rob Vincent | Survey Data Consumptive Removals.
3 p.m.-3:10 p.m | Break
3:10 p.m.-4:40 p.m | TOR #3 | Charles Adams | F, R, SSB Productivity.
4:40 p.m.-5:30 p.m | TORs #4 and A1 | Charles Adams, Laurel Smith | BRPs
5:30 p.m.-5:50 p.m | Discussion/Summary | Review Panel
5:50 p.m.-6 p.m | Public Comment | Public
6 p.m | Adjourn

Tuesday, March 8, 2022
Time | Topic | Presenter(s) | Notes
12 p.m.-12:10 p.m | Welcome/Logistics | Michele Traver, Assessment Process Lead Mike Wilberg, Panel Chair
12:10 p.m.-12:45 p.m | TORs #4 cont. and 5 | Charles Adams | BRPs Stock Determination.
12:45 p.m.-1:45 p.m | TOR #6 | Charles Adams | Projections.
1:45 p.m.-3:15 p.m | TORs #7 and 8 | Charles Adams | Research Recommendations Alternative Approach.
3:15 p.m.-3:25 p.m | Break
3:25 p.m.—4:40 p.m | TOR #7 and 8 cont. | Charles Adams | Research Recommendations Alternative Approach.
4:40 p.m.-5 p.m | Discussion/Summary | Review Panel
5 p.m.-5:10 p.m | Public Comment | Public
5:10 p.m.-6 p.m | Wrap Up/Key Points on Butterfish | Review Panel
6 p.m | Adjourn

Wednesday, March 9, 2022
Time | Topic | Presenter(s) | Notes
12 p.m.-12:10 p.m | Welcome/Logistics | Michele Traver, Assessment Process Lead
| Illex | Mike Wilberg, Panel Chair
12:10 p.m.-2 p.m | TORs #1 and 2 | Lisa Hendrickson, Brooke Lowman | Landings and Discards Surveys and Fishery CPUE.
2 p.m.-2:50 p.m | TOR #3 | Lisa Hendrickson, Jessica Jones | 2019 age, size and maturity, trace element data.
2:50 p.m.-3 p.m | Break
3 p.m.-5 p.m | TORs # 4 and 5 | Lisa Hendrickson, Sarah Salois, Paul Rago | Fishery body size Environmental effects Stock size and Fishing mortality.
5 p.m.-5:20 p.m | Discussion/Summary | Review Panel
5:20 p.m.-5:30 p.m | Public Comment | Public
5:30 p.m. | Adjourn

Thursday, March 10, 2022
Time | Topic | Presenter(s) | Notes
12 p.m.-12:10 p.m | Welcome/Logistics | Michele Traver, Assessment Process Lead Mike Wilberg, Panel Chair
12:10 p.m.-1:10 p.m | TOR #5 cont. | John Manderson | Stock size and Fishing mortality.
1:10 p.m.-2:10 p.m | TOR #6 | Anna Mercer | In-season data.
2:10 p.m.-3:10 p.m | TORs #7-9 | Lisa Hendrickson | BRP's Stock Status Projections.
3:10 p.m.-3:20 p.m | Break
3:20 p.m.-5:20 p.m | TORs #10 and 11 | Lisa Hendrickson | Research Recommendations Alternative approach.
5:20 p.m.-5:40 p.m | Discussion/Summary | Review Panel
5:40 p.m.-5:50 p.m | Public Comment | Public
5:50 p.m.-6 p.m | Wrap Up/Key Points on Illex | Review Panel
6 p.m | Adjourn

Friday, March 11, 2022
Time | Topic | Presenter(s) | Notes
12 p.m.-6 p.m | Report Writing | Review Panel

The meeting is open to the public; however, during the `Report Writing' session on Friday, March 11, 2022, the public should not engage in discussion with the Peer Review Panel.

Special Accommodations

This meeting is physically accessible to people with disabilities. Special requests should be directed to Michele Traver, via email.

Dated: March 4, 2022.
Ngagne Jafnar Gueye,
Acting Director, Office of Sustainable Fisheries, National Marine Fisheries Service.

[FR Doc. 2022-04981 Filed 3-4-22; 4:15 pm]

BILLING CODE 3510-22-P